DEPARTMENT OF COMMERCE

International Trade Administration

[A-570-846]

Brake Rotors from the People's Republic of China: Initiation of New Shipper Antidumping Duty Reviews

AGENCY: Import Administration, International Trade Administration, Department of Commerce.

SUMMARY: The Department of Commerce has received requests to conduct new shipper reviews of the antidumping duty order on brake rotors from the People's Republic of China. In accordance with section 751(a)(2)(B) of the Tariff Act of 1930, as amended, and19 CFR 351.214(d), we are initiating reviews for Zibo Golden Harvest Machinery Limited Company and Shanxi Fengkun Metallurgical Limited Company.

EFFECTIVE DATE: June 5, 2002.

FOR FURTHER INFORMATION CONTACT: Terre Keaton or Davina Hashmi, Import Administration, International Trade Administration, U.S. Department of Commerce, 14th Street and Constitution Avenue, N.W., Washington, D.C. 20230; telephone (202) 482-1280 or 482-0984, respectively.

Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce (“the Department”) regulations are to 19 CFR part 351 (April 2001).

SUPPLEMENTARY INFORMATION:

Background

The Department has received timely requests from Zibo Golden Harvest Machinery Limited Company (“Zibo Golden Harvest”) and Shanxi Fengkun Metallurgical Limited Company (“Fengkun”), in accordance with 19 CFR 351.214(c), for new shipper reviews of the antidumping duty order on brake rotors from the People's Republic of China (“PRC”), which has an April anniversary date.

As required by 19 CFR 351.214(b)(2)(i) and (iii)(A), each of the companies identified above, which are also producers, has certified that it did not export brake rotors to the United States during the period of investigation (“POI”), and that it has never been affiliated with any exporter or producer which did export brake rotors during the POI. Each company has further certified that its export activities are not controlled by the central government of the PRC, satisfying the requirements of 19 CFR 351.214(b)(2)(iii)(B). Pursuant to the Department's regulations at 19 CFR 351.214(b)(2)(iv)(A), Zibo Golden Harvest and Fengkun each submitted documentation establishing the date on which it first shipped the subject merchandise to the United States, the volume of that first shipment, and the date of the first sale to an unaffiliated customer in the United States.

In accordance with section 751(a)(2)(B) of the Act, as amended, and 19 CFR 351.214(b), and based on information on the record, we are initiating new shipper reviews for Zibo Golden Harvest and Fengkun.

It is the Department's usual practice in cases involving non-market economies to require that a company seeking to establish eligibility for an antidumping duty rate separate from the country-wide rate provide de jure and de facto evidence of an absence of government control over the company's export activities. Accordingly we will issue a questionnaire to Zibo Golden Harvest and Fengkun (including a complete separate rates section), allowing approximately 37 days for response. If the response from each respondent provides sufficient indication that it is not subject to either de jure or de facto government control with respect to its exports of brake rotors, each review will proceed. If, on the other hand, a respondent does not demonstrate its eligibility for a separate rate, then it will be deemed to be affiliated with other companies that exported during the POI and that it did not establish entitlement to a separate rate, and the review of that respondent will be rescinded.

Initiation of Review

In accordance with section 751(a)(2)(B)(ii) of the Act and 19 CFR 351.214(d)(1), we are initiating new shipper reviews of the antidumping duty order on brake rotors from the PRC. Therefore, we intend to issue the preliminary results of these reviews not later than 180 days after the date on which the reviews are initiated. On May 7, 2002, Zibo Golden Harvest and Fengkun agreed to waive the time limits in order that the Department, pursuant to 19 CFR 351.214(j)(3), may conduct this review concurrent with the fifth annual administrative review of this order for the period April 1, 2001-March 31, 2002, which is being conducted pursuant to section 751(a)(1) of the Act. Therefore, we intend to issue the final results of this review not later than 245 days after the last day of the anniversary month.

Antidumping Duty Proceeding | Period to be Reviewed
PRC: Brake Rotors, A-570-846:
Zibo Golden Harvest Machinery Limited Company | 04/01/01 - 03/31/02
Shanxi Fengkun Metallurgical Limited Company.

We will instruct the Customs Service to allow, at the option of the importer, the posting, until the completion of the review, of a bond or security in lieu of a cash deposit for each entry of the merchandise exported by the above-listed companies. This action is in accordance with 19 CFR 351.214(e).

Interested parties that need access to proprietary information in these new shipper reviews should submit applications for disclosure under administrative protective orders in accordance with 19 CFR 351.305 and 351.306.

This initiation and notice are in accordance with section 751(a) of the Act (19 U.S.C. 1675(a)) and 19 CFR 351.214(d).

Dated: May 24, 2002
Susan Kuhbach,
Acting Deputy Assistant Secretary Import Administration.

[FR Doc. 02-13992 Filed 6-4-02; 8:45 am]

BILLING CODE 3510-DS-S